NUCLEAR REGULATORY COMMISSION

[Docket No. NRC-2012-0230]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on November 20, 2012 (77 FR 69661).

Information pertaining to the requirement to be submitted:

1. Type of submission, new, revision, or extension: Extension.

2. The title of the information collection: 10 CFR Part 32—“Specific Domestic Licenses to Manufacture or Transfer Certain Items Containing Byproduct Material.”

3. Current OMB approval number: 3150-0001.

4. The form number if applicable: NRC Form 653, NRC Form 653A, and NRC Form 653B.

5. How often the collection is required: There is a one-time submittal of information to receive a certificate of registration for a sealed source and/or device. Certificates of registration for sealed sources and/or devices can be amended at any time. In addition, licensee recordkeeping must be performed on an on-going basis, and reporting of transfer of byproduct material must be reported every calendar year, and in some cases, every calendar quarter.

6. Who will be required or asked to report: All specific licensees who manufacture or initially transfer items containing byproduct material for sale or distribution to general licensees, or persons exempt from licensing, medical use product distributors to specific licensees, and those requesting a certificate of registration for a sealed source and/or device.

7. An estimate of the number of annual responses: 4,789 (3,559 NRC, 1,162 Agreement States and 68 third-party).

8. The estimated number of annual respondents: 959 (246 NRC licensees, registration certificate holders and 713 Agreement State licensees and registration certificate holders).

9. An estimate of the total number of hours needed annually to complete the requirement or request: 164,540 (16,346 reporting hours, 148,093 recordkeeping hours, and 101 third-party disclosures hours).

10. Abstract: Part 32 of Title 10 of the Code of Federal Regulations (10 CFR), establishes requirements for specific licenses for the introduction of byproduct material into products or materials and transfer of the products or materials to general licensees, or persons exempt from licensing, medical use product distributors to specific licensees, and those requesting a certificate of registration for a sealed source and/or device. It also prescribes requirements governing holders of the specific licenses. Some of the requirements are for information which must be submitted in an application for a certificate of registration for a sealed source and/or device, records which must be kept, reports which must be submitted, and information which must be forwarded to general licensees and persons exempt from licensing. As mentioned, 10 CFR part 32 also prescribes requirements for the issuance of certificates of registration (concerning radiation safety information about a product) to manufacturers or initial transferors of sealed sources and devices. Submission or retention of the information is mandatory for persons subject to the 10 CFR part 32 requirements. The information is used by the NRC to make licensing and other regulatory determinations concerning the use of radioactive byproduct material in products and devices.

The public may examine and have copied for a fee publicly available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by March 21, 2013. Comments received after this date will be considered if it is practical to do so, but assurance of consideration cannot be given to comments received after this date.

Chad Whiteman, Desk Officer, Office of Information and Regulatory Affairs (3150-0001), NEOB-10202, Office of Management and Budget, Washington, DC 20503.

Comments can also be emailed to Chad_S_Whiteman@omb.eop.gov or submitted by telephone at 202-395-4718.

The NRC Clearance Officer is Tremaine Donnell, 301-415-6258.

Dated at Rockville, Maryland, this 12th day of February, 2013.
For the Nuclear Regulatory Commission.
Tremaine Donnell,
NRC Clearance Officer, Office of Information Services.

[FR Doc. 2013-03722 Filed 2-15-13; 8:45 am]

BILLING CODE 7590-01-P